DEPARTMENT OF COMMERCE

Foreign-Trade Zones Board

[Docket 83-2011]

Foreign-Trade Zone 44—Morris County, NJ; Application for Expansion

An application has been submitted to the Foreign-Trade Zones (FTZ) Board (the Board) by the New Jersey Department of State, grantee of FTZ 44, requesting authority to expand its zone in the Morris County, New Jersey area, within/adjacent to the New York/Newark Customs and Border Protection port of entry. The application was submitted pursuant to the provisions of the Foreign-Trade Zones Act, as amended (19 U.S.C. 81a-81u), and the regulations of the Board (15 CFR part 400). It was formally filed on December 20, 2011.

FTZ 44 was approved by the Board on October 19, 1978 (Board Order 139, 43 FR 50234, 10/27/78), and expanded on May 29, 2001 (Board Order 1168, 66 FR 31611-31612, 06/12/01), and on April 28, 2008 (Board Order 1558, 73 FR 24940, 05/06/08).

The current zone project includes the following sites: Site 1 (80 acres within the 650-acre complex)—International Trade Center, 300 Waterloo Valley, Mount Olive; Site 2 (307 acres)—Rockefeller Cranbury Industrial Park, Half Acre Rd. and north of Cranbury Station Rd., Cranbury Township; Site 3 (177 acres, sunset 04/30/13)—Central Crossing Business Park, Bordentown-Hedding Rd., Bordentown; Site 4 (57 acres, sunset 04/30/13)—Old York Office Park, Old York Rd., Bordentown; Site 5 (40 acres, sunset 04/30/15)—Rockefeller Group Foreign Trade Zone Meadowlands, County Rd., Jersey City; and, Site 6 (275 acres, sunset 04/30/13)—Norfolk Southern Rail Yard, County Rd., Jersey City and Secaucus.

The applicant is now requesting authority to expand the zone to include the following site: Proposed Site 7 (20 acres)—warehouse facility, 700 Bartley Chester Road, Flanders (Morris County). No specific manufacturing authority is being requested at this time. Such requests would be made on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is February 27, 2012. Rebuttal comments in response to material submitted during the foregoing period may be submitted during the subsequent 15-day period to March 12, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Kathleen Boyce at Kathleen.Boyce@trade.gov or (202) 482-1346.

Dated: December 20, 2011.
Andrew McGilvray,
Executive Secretary.

[FR Doc. 2011-33180 Filed 12-23-11; 8:45 am]

BILLING CODE P